DEPARTMENT OF EDUCATION

Notice of Submission for OMB Review; Office of Planning, Evaluation and Policy Development; Evaluation of the 21st Century Community Learning Centers State Competitions

SUMMARY: This study will examine state subgrant competitions conducted under the 21st Century Community Learning Centers (CCLC) program in order to glean “lessons learned” that can inform efforts to improve the state capacity for conducting state competitions for similarly-structured grant programs under the Elementary and Secondary Education Act of 1965, as amended. More specifically, the study will examine how states conduct their 21st CCLC competitions; state-level conditions and capacity issues affecting the conduct of such competitions; how states evaluate the quality of local applications and plans; and potential strategies for improvement.

DATES: Interested persons are invited to submit comments on or before June 13, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04807. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. chapter 35) requires that Federal agencies provide interested parties an early opportunity to comment on information collection requests. The Acting Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the 21st Century Community Learning Centers State Competitions.

OMB Control Number: Pending.

Type of Review: New.

Total Estimated Number of Annual Responses: 153.

Total Estimated Number of Annual Burden Hours: 153.

Abstract: Evaluation findings will support federal- and state-level staff in developing a deeper understanding of the capacity of states to carry out subgrant competitions, highlight factors that are important to consider in administering a state grant competition, and assist states in developing high-quality grant programs that meet the community needs. Additionally, the results from this review will inform the Department's technical assistance and monitoring activities.

Dated: May 9, 2012.
Tomakie Washington,
Acting Director, Information Collection Clearance Division, Privacy, Information and Records Management Services, Office of Management.

[FR Doc. 2012-11603 Filed 5-11-12; 8:45 am]

BILLING CODE 4000-01-P